ENVIRONMENTAL PROTECTION AGENCY

[EPA-HQ-OAR-2003-0034; FRL 9516-4]

Agency Information Collection Activities; Submission to OMB for Review and Approval; Comment Request; Voluntary Aluminum Industrial Partnership (VAIP) (Renewal)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before May 24, 2012.

ADDRESSES: Submit your comments, referencing Docket ID No. EPA-HQ-OAR-2003-0034, to (1) EPA online using www.regulations.gov (our preferred method), by email to a-and-r-Docket@epa.gov, or by mail to: EPA Docket Center, Environmental Protection Agency, Air and Radiation Docket Information Center, 28221T, 1200 Pennsylvania Ave. NW., Washington, DC 20460, and (2) OMB by mail to: Office of Information and Regulatory Affairs, Office of Management and Budget (OMB), Attention: Desk Officer for EPA, 725 17th Street NW., Washington, DC 20503.

FOR FURTHER INFORMATION CONTACT: Sally Rand, Climate Change Division, Office of Atmospheric Programs (6207J), Environmental Protection Agency, 1200 Pennsylvania Ave. NW., Washington, DC 20460; telephone number: 202-343-9739; fax number: 202-343-2202; email address: rand.sally@epa.gov.

SUPPLEMENTARY INFORMATION: EPA has submitted the following ICR to OMB for review and approval according to the procedures prescribed in 5 CFR 1320.12. On February 16, 2012 (77 FR 9233), EPA sought comments on this ICR pursuant to 5 CFR 1320.8(d). EPA received no comments during the comment period. Any additional comments on this ICR should be submitted to EPA and OMB within 30 days of this notice.

EPA has established a public docket for this ICR under Docket ID No. EPA-HQ-OAR-2003-0034, which is available for online viewing at www.regulations.gov, or in person viewing at the Air and Radiation Docket in the EPA Docket Center (EPA/DC), EPA West, Room 3334, 1301 Constitution Ave. NW., Washington, DC. The EPA/DC Public Reading Room is open from 8:30 a.m. to 4:30 p.m., Monday through Friday, excluding legal holidays. The telephone number for the Reading Room is 202-566-1744, and the telephone number for the Air and Radiation Docket is 202-566-1742.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: Voluntary Aluminum Industrial Partnership (VAIP) (Renewal).

ICR numbers: EPA ICR No. 1867.05, OMB Control No. 2060-0411.

ICR Status: This ICR is scheduled to expire on April 30, 2012. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA's Voluntary Aluminum Industrial Partnership (VAIP) was initiated in 1995 and is an important voluntary program contributing to the overall reduction in emissions of greenhouse gases. This program focuses on reducing direct greenhouse gas emissions including perfluorocarbon (PFC) and carbon dioxide (CO2) emissions from the production of primary aluminum. Six of the seven U.S. producers of primary aluminum participate in this program. PFCs are very potent greenhouse gases with global warming potentials several thousand times that of carbon dioxide, and they persist in the atmosphere for thousands of years. CO2 is emitted from consumption of the carbon anode. The Partnership effectively promotes the adoption of emission reduction technologies and practices associated with decreasing the frequency and duration of anode effects. Participants voluntarily agree to designate a VAIP liaison, and to undertake and share information on technically feasible and cost-effective actions to reduce PFC and direct CO2 emissions. The information contained in the annual reports of VAIP members is used by EPA to assess the success of the program in achieving its goals and to advance Partner efforts to reduce greenhouse gas emissions.

Burden Statement: The annual public reporting and recordkeeping burden for this collection of information is estimated to average 40 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Primary Production of Aluminum.

Estimated Number of Respondents: 6.

Frequency of Response: Annual.

Estimated Total Annual Hour Burden: 240.

Estimated Total Annual Cost: $22,668, includes $0 annualized capital or O&M costs.

Changes in the Estimates: There is a decrease of 393 hours in the total estimated burden currently identified in the OMB Inventory of Approved ICR Burdens. This decrease is attributable in part to implementation of the EPA Mandatory Reporting of Greenhouse Gases Rule (74 FR 56260) which requires reporting of greenhouse gas (GHG) data and other relevant information from large sources and suppliers in the United States. The regulation includes primary aluminum production and because emissions reporting shifted from a voluntary to a mandatory activity, companies are no longer required to track, assess and submit emissions data under the VAIP. There is also one less participating company due to their cessation of primary aluminum production.

John Moses,
Director, Collection Strategies Division.

[FR Doc. 2012-9812 Filed 4-23-12; 8:45 am]

BILLING CODE 6560-50-P